DEPARTMENT OF COMMERCE

National Oceanic and Atmospheric Administration

[RTID 0648-XC846]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council, its Executive Committee, and the Mackerel, Squid, and Butterfish Committee.

DATES: The meetings will be held Tuesday, April 4, 2023 through Thursday, April 6, 2023. For agenda details, see SUPPLEMENTARY INFORMATION.

ADDRESSES: This meeting will be an in-person meeting with a virtual option. Council members, other meeting participants, and members of the public will have the option to participate in person at the Hyatt Place Durham/Southpoint (7840 NC-751 Hwy, Durham, NC 27713, 919-688-1800) or virtually via Webex webinar. Webinar connection instructions and briefing materials will be available at: https://www.mafmc.org/briefing/april-2023.

Council address: Mid-Atlantic Fishery Management Council, 800 N State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org also has details on the meeting location, proposed agenda, webinar listen-in access, and briefing materials.

SUPPLEMENTARY INFORMATION: The following items are on the agenda, although agenda items may be addressed out of order (changes will be noted on the Council's website when possible).

Tuesday, April 4, 2023

Executive Committee Meeting (Closed Session)

Review and recommend new SSC (membership)

Review Award of Excellence nominations

Short-Term Forecasts of Species Distributions for Fisheries Management Project

(Dr. Malin Pinsky, Rutgers University and Dr. Alexa Fredston, University of California Santa Cruz)

Review results and discuss potential application and next steps

East Coast Climate Change Scenario Planning Update

Update from February 2023 East Coast Scenario Planning Summit and next steps

Wednesday, April 5, 2023

Mackerel, Squid, and Butterfish Committee, Meeting as a Committee of the Whole Illex: Review 2023 and Set 2024-z 25 Specifications

Review recommendations from the Advisory Panel, SSC, and staff

Review 2023 specifications and consider modifications if appropriate

Approve 2024-25 specifications

Illex Permit Action Follow-Up

Review NOAA Fisheries response to request for additional information regarding disapproval of Illex Permit Action

Consider the initiation of a framework to create Vessel Hold Baselines for permits in the Illex fishery

Council Convenes

Habitat Activities Update

(Greater Atlantic Regional Fisheries Office, Habitat and Ecosystem Services Division)

Presentation on activities of interest (aquaculture, wind, and other projects) in the region

Ocean City Video Boat Count Project

Review results

Update From ACCSP on Atlantic Recreational Data Implementation Plan

(Geoffrey White, Atlantic Coastal Cooperative Statistics Program)

Update on development process and 2023-2027 priorities

Marine Recreational Information Program (MRIP) Update

(Katherine Papacostas, NOAA Fisheries, Office of Science and Technology)

Update on 2023 MRIP priorities and proposed actions in response to National Academies Study committee recommendations regarding recreational data

Scup Federal Recreational Season

Review recent ASMFC Board recommendation to NOAA Fisheries to reconsider previously adopted seasonal closure

Determine if similar action by the Council is warranted

2023 Mid-Atlantic State of the Ecosystem Report

(Dr. Sarah Gaichas, NEFSC)

Review and provide feedback

NOAA's National Seafood Strategy

(Michael Rubino, NOAA Fisheries)

Review of NOAA's proposed strategy

Thursday, April 6, 2023

Business Session

Committee Reports (SSC); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under Section 305(c) of the Magnuson-Stevens Fishery Conservation and Management Act, provided the public has been notified of the Council's intent to take final action to address the emergency.

Special Accommodations

These meetings are physically accessible to people with disabilities. Requests for sign language interpretation or other auxiliary aid should be directed to Shelley Spedden, (302) 526-5251, at least 5 days prior to the meeting date.

Authority: 16 U.S.C. 1801 et seq.

Dated: March 13, 2023.
Rey Israel Marquez,
Acting Deputy Director, Office of Sustainable Fisheries, National Marine Fisheries Service.

[FR Doc. 2023-05397 Filed 3-15-23; 8:45 am]

BILLING CODE 3510-22-P